SECURITIES AND EXCHANGE COMMISSION

Submission for Office and Management Budget Review; Comment Request

Upon written request, copies available from: Securities and Exchange Commission, Office of Filings and Information Services, Washington, DC 20549

Extension:

Rule 15g-4, SEC File No. 270-347, OMB Control No. 3235-0393; Rule 15g-5, SEC File No. 270-348, OMB Control No. 3235-0394; Rule 17a-8, SEC File No. 270-53, OMB Control No. 3235-0092; Rule 17Ac2-1 and Form TA-1, SEC File No. 270-95, OMB Control No. 3235-0084; Rule 19d-2, SEC File No. 270-204, OMB Control No. 3235-0205.

Notice is hereby given that pursuant to the Paperwork Reduction Act of 1995 (44 U.S.C. 3501 et seq.), the Securities and Exchange Commission (“Commmission”) has submitted to the Office of Management and Budget requests for extension of the previously approved collections of information discussed below.

Rule 15g-4 requires brokers and dealers effecting transactions in penny stocks for or with customers to disclose the amount of compensation received by the broker-dealer in connection with the transaction. It is estimated that approximately 270 respondents incur an average of 100 hours annually to comply with the rule.

Rule 15g-5 requires brokers and dealers to disclose to customers the amount of compensation to be received by their sales agents in connection penny stock transactions. It is estimated that approximately 270 respondents incur an average of 100 hours annually to comply with the rule.

Rule 17a-8 requires brokers and dealers to make and keep certain reports and records concerning their currency and monetary instrument transactions. The requirements allow the Commission to ensure that brokers and dealers are in compliance with the Currency and Foreign Transactions Reporting Act of 1970 (“Bank Secrecy Act”) and with the Department of the Treasury regulations under that Act. The reports and records required under this rule initially are required under Department of the Treasury regulations. Additional burden hours and costs are not imposed by this rule.

Rule 17Ac2-1 requires transfer agents to register with the Commission, the Comptroller of the Currency, the Board of Governors of the Federal Reserve System, or the Federal Deposit Insurance Corporation, and to amend their registration. It is estimated that on an annual basis, the Commission will receive approximately 250 applications for registration on Form TA-1 from transfer agents required to register as such with the Commission. Included in this figure are amendments made to Form TA-1 as required by Rule 17Ac2-1(c). Based upon past submissions, the staff estimates that the average number of hours necessary to comply with the requirements of Rule 17Ac2-1 is one and one-half hours, with a total burden of 375 hours.

Rule 19d-2 prescribes the form and content of applications to the Commission by persons desiring stays of final disciplinary sanctions and summary action of self-regulatory organizations (“SRO”) for which the Commission is the appropriate regulatory agency. It is estimated that approximately 30 respondents will utilize this application procedure annually, with a total burden of 90 hours, based upon past submissions. The staff estimates that the average number of hours necessary to comply with the requirements of Rule 19d-2 is 3 hours.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, D.C. 20503; and (ii) Michael E. Bartell, Associate Executive Director, Office of Information Technology, Securities and Exchange Commission, 450 Fifth Street, N.W., Washington, D.C. 20549. Comments must be submitted to OMB within 30 days of this notice.

Dated: February 2, 2000.
Margaret H. McFarland,
Deputy Secretary.

[FR Doc. 00-5433 Filed 3-6-00; 8:45 am]

BILLING CODE 8010-01-M